Title 3—

The President

Proclamation 8379 of May 12, 2009

Jewish American Heritage Month, 2009

By the President of the United States of America

A Proclamation

The Jewish American tradition exemplifies the strength of the American immigrant tradition. Since Jews arrived in New Amsterdam in 1654, Jewish Americans have maintained a unique identity just as they have enmeshed themselves in the fabric of the United States. This month we celebrate this inspiring and unifying narrative.

Jewish Americans across the United States practice the faith and celebrate the culture of their ancestors. Across the Nation every day, individuals emulate their forebears by seeking to perform mitzvot, the hundreds of commandments set forth in the Torah. The term “mitzvah” has come to mean “good deed,” and many Jews have adopted these practices to serve their communities. Other mitzvot include observing holidays, such as Passover, which marks the exodus from Egypt; and Yom Kippur, a time to contemplate and seek forgiveness for the sins of the past year; and Shabbat, the weekly day of rest.

The focus on preserving traditions is a notable characteristic of Jewish culture. Many Jewish religious and cultural practices have developed and adapted over the millennia, yet the fundamental exhortation to ensure that long-cherished ways of life are passed on to future generations remains as strong as ever before. Many Jewish Americans carry on this belief as they instill these traditions in their children.

Seeking to preserve their culture and start anew, Jewish immigrants have departed familiar lands to pursue their own American dreams for more than 300 years. During some periods, Jews sought refuge in the United States from the horrors and tragedies of persecution, pogroms, and the Holocaust. During other times, they came to seek better lives and greater economic opportunities for themselves and their children.

Jewish Americans have immeasurably enriched our Nation. Unyielding in the face of hardship and tenacious in following their dreams, Jewish Americans have surmounted the challenges that every immigrant group faces, and have made unparalleled contributions. Many have broken new ground in the arts and sciences. Jewish American leaders have been essential to all branches and levels of government. Still more Jewish Americans have made selfless sacrifices in our Armed Forces. The United States would not be the country we know without the achievements of Jewish Americans.

Among the greatest contributions of the Jewish American community, however, is the example they have set for all Americans. They have demonstrated that Americans can choose to maintain cultural traditions while honoring the principles and beliefs that bind them together as Americans. Jewish American history demonstrates how America’s diversity enriches and strengthens us all.

NOW, THEREFORE, I, BARACK OBAMA, President of the United States of America, by virtue of the authority vested in me by the Constitution and the laws of the United States, do hereby proclaim May 2009 as Jewish American Heritage Month. I call upon all Americans to commemorate the proud heritage of Jewish Americans with appropriate ceremonies and activities.

IN WITNESS WHEREOF, I have hereunto set my hand this twelfth day of May, in the year of our Lord two thousand nine, and of the Independence of the United States of America the two hundred and thirty-third.

[FR Doc. E9-11587

Filed 5-14-09; 11:15 am]

Billing code 3195-W9-P